DEPARTMENT OF HEALTH AND HUMAN SERVICES

Health Resources and Services Administration

CDC/HRSA Advisory Committee on HIV and STD Prevention and Treatment Ryan White Comprehensive AIDS Resources Emergency (CARE) Act Reauthorization Workgroup

AGENCY: Health Resources and Services Administration, HHS.

ACTION: Notice of public meetings and opportunity to provide written comments.

SUMMARY: On May 15, 2003, the Centers for Disease Control and Prevention (CDC)/Health Resources and Services Administration (HRSA) Advisory Committee on HIV and STD Prevention and Treatment established the Ryan White Comprehensive AIDS Resources Emergency (CARE) Act Reauthorization Workgroup. The workgroup is seeking public input about future HIV/AIDS care program directions including issues related to the third reauthorization of the Ryan White CARE Act. The CDC/HRSA Advisory Committee on HIV and STD Prevention and Treatment will subsequently submit a set of formal recommendations relating to future program directions and reauthorization issues to the HRSA Administrator.

DATES: Three public meetings will be held on September 12, 2003, September 25, 2003, and October 3, 2003, from 9:30 a.m. to 3:30 p.m. To be assured of consideration for this public session, written comments should be postmarked no later than 12 days prior to each meeting.

ADDRESSES: The September 12, 2003, public meeting will be held at the Marriott Wardman Park Hotel, 2660 Woodley Road, NW., Washington, DC, telephone (202) 328-2000; the September 25, 2003, public meeting will be held at the Miami Airport Marriott, 1201 NW., LeJeune Road, Miami, Florida, telephone (305) 649-5000; and the October 3, 2003, public meeting will be held at the Hyatt Regency Los Angeles, 711 South Hope Street, Los Angeles, California, telephone (213) 683-1234. Written comments should be sent to the CDC/HRSA Advisory Committee on HIV and STD Prevention and Treatment, c/o HRSA HIV/AIDS Bureau, Office of Policy and Program Development, Attention: Regina Tosca, Parklawn Building, Room 7-18, 5600 Fishers Lane, Rockville, Maryland 20857.

FOR FURTHER INFORMATION CONTACT: Ms. Shelley Gordon, Office of Policy and Program Development, HIV/AIDS Bureau, Health Resources and Services Administration, (301) 443-5400, fax (301) 443-3323, or e-mail SGordon@HRSA.gov.

SUPPLEMENTARY INFORMATION: The meetings will be open to the public, limited only by the space available. The meeting rooms will accommodate approximately 80 people. The purpose of the meetings is to obtain public input into future program directions and issues related to the reauthorization of the Ryan White CARE Act of 1990, as amended by the Ryan White CARE Act Amendment of 1996 and 2000 (Pub. L. 104-146 and Pub. L. 106-345). Written comments should be limited to no more than 10 single-spaced pages (or 20 double-spaced, excluding addendum or supplemental materials) and should contain the name, address, telephone and fax numbers, and any organizational affiliation of the persons requesting to provide a written statement. All requests for making oral comments will be honored at the meetings on September 12, September 25, and October 3. Depending on the number of requests to present oral comments, it may be necessary to limit the length of time for each presenter. We are particularly interested in comments which address the following questions:

1. Is the CARE Act structured to best provide Federal Emergency Assistance for HIV treatment and care services?

2. What in the CARE Act works for you and what does not?

3. Does the CARE Act provide adequate resources to respond to your needs or those of your community?

4. Does the CARE Act local planning process (e.g., needs assessment, priority setting, and allocation processes) ensure a fair and appropriate opportunity to determine the HIV care and support service needs of your community?

5. What are the most significant HIV service gaps in your community? How can the CARE Act help fill them?

6. What are the most significant barriers to access to services? How can the CARE Act help overcome them?

7. How can the CARE Act respond more fully to the current and changing needs of people living with HIV?

8. What is the single most important thing you would change in the CARE Act and why?

Authority: Pub. L. 92-463 (5 U.S.C., App. 2); 42 U.S.C. 217a, sec. 222 of the Public Health Service Act.

Dated: August 14, 2003.
Elizabeth M. Duke,
Administrator.

[FR Doc. 03-21398 Filed 8-20-03; 8:45 am]

BILLING CODE 4165-15-P